DEPARTMENT OF JUSTICE

Notice of Lodging of Proposed Consent Decree and Settlement Agreement Under the Comprehensive Environmental Response, Compensation, and Liability Act and Federal Water Pollution Control Act

Notice is hereby given that on August 13, 2012, a proposed Consent Decree and Settlement Agreement (“Proposed Consent Decree”) in In re: Eaglepicher Holdings, Inc., et al., Civil Action No. 05-12601 was lodged with the United States Bankruptcy Court for the Southern District of Ohio.

In this action, the United States sought natural resource damages under Section 107(a) of the Comprehensive Environmental Response, Compensation, and Liability Act (CERCLA), 42 U.S.C. 9607(a), and Section 311(f) of the Federal Water Pollution Control Act (“Clean Water Act”), 33 U.S.C. 1321(f), related to the release or threat of release of hazardous substances from EaglePicher Technology, LLC's (“EPT”) former facility in Joplin, Missouri. The United States also sought response costs and natural resource damages under CERCLA from EaglePicher Incorporated (“EPI”) related to the release or threat of release of hazardous substances from the Eagle Zinc Superfund Site in Hillsboro, Illinois, the Delta, Ohio residential fill sites, the Wentworth Subdistrict of the Newton County Mine Tailings Superfund Site in Newton County, Missouri, the Phoenix Park Millsite in Creede, Colorado, and the Creta Copper Operations Site in Jackson County, Oklahoma.

The proposed Consent Decree entered into by the United States, the State of Missouri, and EP Management Corporation resolves the United States' and State of Missouri's claims against EPT for natural resource damages under CERCLA and the Clean Water Act at the former EPT manufacturing facility in Joplin, Missouri. The proposed Consent Decree also resolves the United States' claims against EaglePicher Incorporated (EPI) under CERCLA, for: (1) EPA response costs at the Eagle Zinc Superfund Site in Hillsboro, Illinois; (2) EPA response costs at three residential fill sites located in Delta Ohio; (3) EPA response costs at the Wentworth Subdistrict of the Newton County Mine Tailings, Superfund Site in Newton County, Missouri; (4) DOI Natural Resource Damages at the Newton County Mine Tailings Superfund Site; (5) USDA Forest Service Response Costs at the Phoenix Park Millsite in Creede, Colorado; (6) Natural Resource Damages at the Creta Copper Operation Site in Jackson County, OK. The proposed Consent Decree provides for a payment by EPMC of $822,600 to resolve the United States' and States of Missouri's natural resource damage claims against EPT, of which $255,955 will be paid to the United States, $658,000 will be placed in an escrow account for the restoration, replacement, or acquisition of the equivalent of the injured natural resources at the former EPT facility in Joplin, Missouri, and $8,645 will be paid to the State of Missouri. The proposed Consent Decree also obligates EPMC to pay an additional $100,000 to resolve the United States' claims for response costs and natural resource damages against EPI.

The Department of Justice will receive for a period of thirty (30) days from the date of this publication comments relating to the Proposed Consent Decree. Comments should be addressed to the Assistant Attorney General, Environment and Natural Resources Division, and either emailed to pubcomment-ees.enrd@usdoj.gov or mailed to P.O. Box 7611, U.S. Department of Justice, Washington, DC 20044-7611, and should refer to In re: EaglePicher Holdings, Inc., et al., D.J. Ref. 90-11-3-747/2.

During the public comment period, the Proposed Consent Decree, may also be examined on the following Department of Justice Web site, to http://www.usdoj.gov/enrd/Consent_Decrees.html. A copy of the Proposed Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $9.75 (25 cents per page reproduction cost) payable to the U.S. Treasury or, if requesting by email or fax, forward a check in that amount to the Consent Decree Library at the address given above.

Maureen Katz,
Assistant Chief, Environmental Enforcement Section, Environment and Natural Resources Division.

[FR Doc. 2012-20647 Filed 8-21-12; 8:45 am]

BILLING CODE 4410-15-P